CIVIL RIGHTS COMMISSION

Sunshine Act Meeting

AGENCY: United States Commission on Civil Rights.

ACTION: Notice of Commission public business meeting.

DATES: Friday October 30, 2020, 12:00 p.m. ET.

ADDRESSES: Meeting to take place by telephone and open to the public by telephone: 1-800-635-7637, Conference ID code #386-6160. Computer assisted real-time transcription (CART) will be provided. The web link to access CART (in English) on Friday October 30, 2020, is https://www.streamtext.net/player?event=USCCR. Please note that CART is text-only translation that occurs in real time during the meeting and is not an exact transcript.

FOR FURTHER INFORMATION CONTACT: Zakee Martin: 202-376-7700; publicaffairs@usccr.gov.

Meeting Agenda

I. Approval of Agenda

II. Business Meeting

A. Presentation from Arkansas Advisory Committee to the Commission on their report, Mass Incarceration and Civil Rights in Arkansas

B. Presentation from Michigan Advisory Committee to the Commission on their report, Voting Rights and Access in Michigan

C. Discussion and Vote on Commission report, COVID-19 in Indian Country: The Impact of Federal Broken Promises on Native Americans

D. Discussion and Vote on Commission Advisory Committee Appointments

• New York Advisory Committee Chair

• Arkansas Advisory Committee

• Colorado Advisory Committee

• North Carolina Advisory Committee

E. Discussion and vote on amendment to Administrative Instruction 5-9, Advisory Committee Member Conduct Policy

F. Management and Operations

• Staff Director's Report

III. Adjourn Meeting

Dated: October 16, 2020.
David Mussatt,
Supervisory Chief, Regional Programs Unit.

[FR Doc. 2020-23333 Filed 10-16-20; 4:15 pm]

BILLING CODE 6335-01-P